DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Understanding and Monitoring Funding Streams in Ryan White Clinics

OMB No:. 0915-xxxx—New

Abstract: HRSA's HIV/AIDS Bureau (HAB) administers the Ryan White HIV/AIDS Program (RWHAP) authorized under Title XXVI of the Public Health Service Act as amended by the Ryan White HIV/AIDS Treatment Extension Act of 2009. Established in 1990, the RWHAP is a federally funded program designed to provide HIV-related medical care and treatment, as well as support services for individuals and families affected by the disease who are uninsured or underinsured. The program consists of several “Parts,” corresponding to sections of the statute, through which funding is provided to states, cities, providers, and other organizations. Part A provides emergency relief for areas with substantial need for HIV/AIDS care and support services that are most severely affected by the HIV/AIDS epidemic, including eligible metropolitan areas (EMAs) and transitional grant areas (TGAs). Part B provides grants to states and U.S. territories to improve the quality, availability, and organization of HIV/AIDS health care and support services. Part B grants include a base grant; the AIDS Drug Assistance Program (ADAP) award; ADAP Supplemental Drug Treatment Program funds; and supplemental grants to states with “emerging communities,” defined as jurisdictions reporting between 500 and 999 cumulative AIDS cases over the most recent 5 years. The Part C Early Intervention Services (EIS) component of the Ryan White HIV/AIDS Program funds comprehensive primary health care in outpatient settings for people living with HIV disease. Part D grantees provide outpatient or ambulatory family-centered primary medical care for women, infants, children, and youth with HIV/AIDS.

In 2010, the Patient Protection and Affordable Care Act (ACA) was enacted into law. The ACA is expansive and will likely impact the RWHAP. Some of the reforms have already been implemented (including the creation of Pre-Existing Condition Insurance Plans) and the barring of insurance carriers from denying coverage to children with pre-existing conditions, such as HIV/AIDS; cancelling coverage for adults with health conditions because of unintentional mistakes on the application; and imposing lifetime dollar caps on essential health benefits. Effective January 2014, states will have the option to expand Medicaid to individuals younger than 65 years of age with incomes up to 133 percent of the federal poverty level (FPL). On October 1, 2013, insurance marketplaces (exchanges) from which individuals can purchase health insurance, began open enrollment, with coverage to begin as early as January 1, 2014. Individuals with incomes up to 400 percent FPL may be eligible for tax credits to reduce premium costs. Individuals with lower incomes may also be eligible for reductions in cost-sharing.

The proposed study will provide HAB and policymakers with a better understanding of how the RWHAP currently provides primary outpatient health care and essential support services to both uninsured and underinsured clients. It will identify what types of core medical services and subservices and support services are currently not covered or not fully covered by Medicaid, Medicare, and private insurance, which are needed to provide high quality HIV/AIDS care. The study also will provide information on how grantees monitor patient healthcare coverage (e.g., payer source, type of insurance) and the cost of care. Together, this information will help HAB understand the abilities of Part C and Part D grantees to support and track expanded health insurance enrollment for their clients and to adapt to the changing funding landscape. The study will also collect information on what processes are used and what types of data are stored within their data information systems. Information about data information systems will be used to support the development of a technical assistance tracker for RWHAP grantees to monitor and assess changes in the mix of funding sources used to pay for primary health care and essential support services to people living with HIV/AIDS (PLWHA) as the ACA is fully implemented.

Lastly, the study will gather information regarding Part C and Part D grantees' levels of participation in state-sponsored initiatives for the development of health homes, their relationship with managed care organizations, and their status regarding recognition as a Patient Centered Medical Home. This information will provide some basic information regarding grantees' abilities to continue to service PLWHA as the ACA is implemented differently among the states.

The Ryan White Funding Streams Survey (Survey) will be used to collect this information. The survey will collect both qualitative and quantitative data and will be administered online to program directors from a representative sample of Part C and Part D grantees. The Survey contains 32 questions that capture information about the different funding streams used for the provision of services to PLWHA; grantees' abilities to track health insurance, funding sources, and costs of care; and their relationship with managed care organizations. The data provided through the survey will not contain individual or personally identifiable information. This information will inform HAB in the development of future RWHAP policy. It will also assist HAB in the final development of the technical assistance tracking tool for grantees.

Need and Proposed Use of the Information: The information collected will help HAB understand how the RWHAP currently provides primary outpatient health care and essential support services to both uninsured and underinsured clients and which of these are currently not covered or not fully covered by Medicaid, Medicare, and private insurance. It will help HAB understand how grantees monitor patient healthcare coverage (e.g., payer source, type of insurance) and the cost of care. Together, this information will help HAB gain knowledge on the abilities of Part C and Part D grantees to support and track expanded health insurance enrollment for their clients and to adapt to the changing funding landscape. This will inform HAB in the development of future RWHAP policies.

In addition, information about data information systems will be used to support the development of a technical assistance tracker for RWHAP grantees to monitor and assess changes in the mix of funding sources used to pay for primary health care and essential support services to PLWHA as the ACA is fully implemented. Information about Part C and Part D grantees' levels of participation in state-sponsored initiatives will provide some basic information regarding grantees' abilities to continue to service PLWHA as the ACA is implemented differently among the states.

Likely Respondents: The survey will be administered online to program directors from a representative sample of Part C and Part D grantees.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours

Form | Number of respondents | Number of responses per respondent | Total responses | Average burden per response (in hours) | Total burden hours
Survey | 120 | 1 | 120 | 4.7 | 564

Dated: December 23, 2013.
Bahar Niakan,
Director, Division of Policy and Information Coordination.

[FR Doc. 2013-31158 Filed 12-27-13; 8:45 am]

BILLING CODE 4165-15-P